DEPARTMENT OF TRANSPORTATION

Federal Aviation Administration

14 CFR Part 71

[Docket No. FAA-2015-4452; Airspace Docket No. 15-AWA-7]

RIN 2120-AA66

Amendment of Class C Airspace; Capital Region International Airport, MI

AGENCY: Federal Aviation Administration (FAA), DOT.

ACTION: Final rule.

SUMMARY: This action modifies the Lansing, MI, Class C airspace at the Capital Region International Airport, formerly the Lansing Capital City Airport, by removing a cutout from the surface area that was put in place to accommodate operations at an airport that is now permanently closed. This action also updates the Capital Region International Airport name and geographic coordinates to reflect the current information in the FAA's aeronautical database. The FAA is taking this action to ensure the safe and efficient operations at Capital Region International Airport.

DATES: Effective date 0901 UTC, September 15, 2016. The Director of the Federal Register approves this incorporation by reference action under 1 CFR part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.9Z at NARA, call (202) 741-6030, or go to http://www.archives.gov/federal_register/code_of_federal-regulations/ibr_locations.html.

FAA Order 7400.9, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies a portion of the terminal airspace structure at Capital Region International Airport, Lansing, MI.

History

On November 27, 2015, the FAA published in the Federal Register a notice of proposed rulemaking (NPRM) to modify the Class C airspace at Capital Region International Airport, MI (80 FR 74061) Docket No. FAA-2015-4452. Interested parties were invited to participate in this rulemaking effort by submitting written comments on the proposal. No comments were received.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

The FAA is amending Title 14, Code of Federal Regulations (14 CFR) part 71 to modify the Capital Region International Airport Class C airspace area by removing the cutout from the Class C surface area that excluded the airspace within a 1-mile radius of the former Davis Airport and the airspace 1 mile either side of the 090° bearing from the former Davis Airport. The exclusion from the Class C surface area was in place solely to accommodate operations at Davis Airport, which closed in 2000 and was removed from the FAA's aeronautical database in 2006. Since the original purpose of the exclusion no longer exists, the FAA is removing the words “. . . excluding that airspace within a 1-mile radius of the Davis Airport and excluding that airspace 1 mile either side of the 090° bearing from Davis Airport to the 5-mile radius from Capital City Airport . . .” from the Class C airspace description.

This action also updates the Capital Region International Airport name and geographic coordinates in the Lansing, MI, Class C airspace description to reflect the current information in the FAA's aeronautical database. Specifically, this action replaces “Capital City Airport” with “Capital Region International Airport” and replaces “lat. 42°46′43″ N., long. 84°35′15″ W.” with “lat. 42°46′43″ N., long. 84°35′10″ W.”

Class C airspace areas are published in paragraph 4000 of FAA Order 7400.9Z, dated August 6, 2015, and effective September 15, 2015, which is incorporated by reference in 14 CFR 71.1. The Class C airspace modification in this action will be published subsequently in the Order.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action consists of modifying Class C airspace area and it is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of the FAA Order 7400.9Z, Airspace Designations and Reporting Points, dated August 6, 2015, and effective September 15, 2015, is amended as follows:

Paragraph 4000 Class C Airspace.

* * * * *

AGL MI C Lansing, MI [Amended]

Capital Region International Airport, MI

(Lat. 42°46′43″ N., long. 84°35′10″ W.)

That airspace extending upward from the surface to and including 4,900 feet MSL within a 5-mile radius of Capital Region International Airport; and that airspace extending upward from 2,100 feet MSL to and including 4,900 feet MSL within a 10-mile radius of Capital Region International Airport.

* * * * *

Issued in Washington, DC, on May 31, 2016.
Leslie M. Swann,
Acting Manager, Airspace Policy Group.

[FR Doc. 2016-13551 Filed 6-8-16; 8:45 am]

BILLING CODE 4910-13-P